DEPARTMENT OF ENERGY

Federal Energy Regulatory Commission

Combined Notice of Filings #2

Friday, August 31, 2007.

Take notice that the Commission has received the following Natural Gas Pipeline Rate and Refund Report filings:

Docket Numbers: RP07-623-000.

Applicants: Williston Basin Interstate Pipeline Co.

Description: Williston Basin Interstate Pipeline Co submits its Annual Report of Penalty Revenue Credits for the twelve month reporting period ended 6/30/07.

Filed Date: 08/29/2007.

Accession Number: 20070830-0016.

Comment Date: 5 p.m. Eastern Time on Monday, September 10, 2007.

Docket Numbers: RP07-624-000.

Applicants: Carolina Gas Transmission Corporation.

Description: Carolina Gas Transmission Corp submits First Revised Sheet 10 et al to FERC Gas Tariff, Volume 1, to be effective 10/1/07.

Filed Date: 08/29/2007.

Accession Number: 20070830-0017.

Comment Date: 5 p.m. Eastern Time on Monday, September 10, 2007.

Docket Numbers: RP07-625-000.

Applicants: Carolina Gas Transmission Corporation.

Description: Carolina Gas Transmission Corp submits its Annual Report of Penalty Revenue Credits for the reporting period 11/1/06-5/31/04.

Filed Date: 08/29/2007.

Accession Number: 20070830-0018.

Comment Date: 5 p.m. Eastern Time on Monday, September 10, 2007.

Docket Numbers: RP07-626-000.

Applicants: Northern Natural Gas Company.

Description: Petition of Northern Natural Gas Co for a limited waiver of tariff provisions.

Filed Date: 08/29/2007.

Accession Number: 20070830-0019.

Comment Date: 5 p.m. Eastern Time on Monday, September 10, 2007.

Docket Numbers: RP07-627-000.

Applicants: Gulfstream Natural Gas System, LLC.

Description: Gulfstream Natural Gas System, LLC submits Seventh Revised Sheet 7 to FERC Gas Tariff, Volume 1, to be effective 10/1/07.

Filed Date: 08/29/2007.

Accession Number: 20070830-0020.

Comment Date: 5 p.m. Eastern Time on Monday, September 10, 2007.

Docket Numbers: RP07-628-000.

Applicants: Maritimes & Northeast Pipeline, LLC.

Description: Maritimes & Northeast Pipeline, LLC submits Eighth Revised Sheet 7 et al to FERC Gas Tariff, First Revised Volume 1, to be effective 10/1/07.

Filed Date: 08/29/2007.

Accession Number: 20070830-0021.

Comment Date: 5 p.m. Eastern Time on Monday, September 10, 2007.

Docket Numbers: RP07-629-000.

Applicants: Texas Eastern Transmission LP.

Description: Texas Easterm Transmission, LP submits Thirty Four Revised Sheet 26 et al to FERC Gas Tariff, Seventh Revised Volume 1 et al, to be effective 10/1/07.

Filed Date: 08/29/2007.

Accession Number: 20070830-0022.

Comment Date: 5 p.m. Eastern Time on Monday, September 10, 2007.

Docket Numbers: RP07-630-000.

Applicants: East Tennessee Natural Gas, LLC.

Description: East Tennessee Natural Gas, LLC submits Seventh Revised Sheet 20 et al to FERC Gas Tariff, Third Revised Volume 1, to be effective 10/1/07.

Filed Date: 08/29/2007.

Accession Number: 20070830-0023.

Comment Date: 5 p.m. Eastern Time on Monday, September 10, 2007.

Docket Numbers: RP07-631-000.

Applicants: Algonquin Gas Transmission Company.

Description: Algonquin Gas Transmission, LLC submits Seventh Revised Sheet 22 et al to FERC Gas Tariff, Fifth Revised Volume 1 et al, to be effective 10/1/07.

Filed Date: 08/29/2007.

Accession Number: 20070830-0024.

Comment Date: 5 p.m. Eastern Time on Monday, September 10, 2007.

Docket Numbers: RP07-632-000.

Applicants: Transwestern Pipeline Company, LLC.

Description: Transwestern Pipeline Co, LLC submits Second Revised Sheet 6 et al to FERC Gas Tariff, Third Revised Volume 1, to be effective 10/1/07.

Filed Date: 08/29/2007.

Accession Number: 20070830-0025.

Comment Date: 5 p.m. Eastern Time on Monday, September 10, 2007.

Docket Numbers: RP07-633-000.

Applicants: Alliance Pipeline L.P.

Description: Alliance Pipeline, LP submits Fifth Revised Sheet 10 to FERC Gas Tariff, Original Volume 1, to be effective 10/1/07.

Filed Date: 08/29/2007.

Accession Number: 20070830-0145.

Comment Date: 5 p.m. Eastern Time on Monday, September 10, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-17693 Filed 9-6-07; 8:45 am]

BILLING CODE 6717-01-P